DEPARMENT OF TRANSPORTATION

Federal Highway Administration

Environmental Impact Statement: Northwest Corridor Project—Municipalities of Hatillo, Camuy, Quebradillas, Isabela, Moca and Aguadilla, Commonwealth of Puerto Rico

AGENCY: Federal Highway Administration (FHWA), DOT.

ACTION: Notice of Intent.

SUMMARY: The FHWA is issuing this notice to advise the public that an environmental impact statement (EIS) will be prepared for a proposed Northwest Corridor highway project within the Municipalities of Hatillo, Camuy, Quebradillas, Isabela, Moca and Aguadilla in the Commonwealth of Puerto Rico.

FOR FURTHER INFORMATION CONTACT: Luis D. López-Rivera, PE, Environmental Specialist, FHWA Puerto Rico Division Office, 350 Avenue Carlos Chardón Suite 210, San Juan PR 00918-2161; Telephone: (787) 766-5600.

SUPPLEMENTARY INFORMATION: The FHWA, in cooperation with the Puerto Rico Highway & Transportation Authority (PRHTA), will prepare an environmental impact statement (EIS) on a proposal for improvements to the Hatillo-Aguadilla Northwest Corridor in the Commonwealth of Puerto Rico. The proposed project starts at PR-22/PR-2 intersection in the municipality of Hatillo, and ends at State Road PR-2 between kilometers 128.0 and 130.0 in the municipality of Aguadilla for a total length of approximately 45 kilometers.

The main goals of the Northwest Corridor project are: (1) Complete an expressway from San Juan to Aguadilla; (2) provide a more efficient system linkage in the study corridor; (3) alleviate local congestion on PR-2 in the municipalities of Hatillo, Camuy, Quebradillas, Isabela, Moca, and Aguadilla; (4) reduce travel time in at least 20% from Hatillo to Aguadilla; (5) improve traffic safety conditions from Hatillo to Aguadilla; (6) reduce the vehicle operating and maintenance costs of vehicle owners using the route; (7) reduce vehicle air emissions; and (8) promote the socioeconomic development of the northwest region of Puerto Rico.

Alternates under consideration include but are not limited to the following: (1) Taking no action; (2) widening the existing four-lane and at grade intersections to six-lanes and intersection overpasses at State Road PR-2; (3) constructing a four-lanes, limited access highway on new location; (4) and (5) constructing four-lanes, limited access highway segments on two new locations in combination with widening the existing four-lane and at grade intersections to six-lanes and intersection overpasses on other State Road PR-2 segments; (6) Dynamic Toll Lanes at State Road PR-2 from Hatillo to Aguadilla and constructing a four lanes limited access highway on the Aguadilla segment. The EIS will be developed in accordance with 23 U.S.C. 139, 23 CFR 771, and 40 CFR 1500-1508.

Public involvement will occur throughout the development of the environmental studies and the EIS. These documents will be made available for review and comments by federal and state resource agencies and the public. Specific efforts to encourage involvement by, and solicit comments from, minority and low-income populations in the project study area will be made. A series of public information meetings will be held during the project study. In addition, a public hearing will be held after the completion of the Draft EIS. Public notice will be given as to the time and place of all public information meetings and hearings.

Inquiries related to the Hatillo-Aguadilla Northwest Corridor Project EIS can be sent to FHWA at the address provided above or at http://www.corredornoroeste.com. To ensure that the full range of issues related to this proposed action are addressed and all significant issues identified, comments and suggestions are invited from all interested parties.

The EIS process will conclude with a Record of Decision selecting either the no build alternative or a preferred alternative.

(Catalog of Federal Domestic Assistance Program Number 20.205, Highway Research, Planning and Construction. The regulations implementing Executive Order 12372 regarding intergovernmental consultation on Federal programs and activities apply to this program.)

Dated: July 29, 2014.
Luis D. López-Rivera,
Environmental Specialist, San Juan, Puerto Rico.

[FR Doc. 2014-18309 Filed 8-1-14; 8:45 am]

BILLING CODE 4910-22-P